NUCLEAR REGULATORY COMMISSION

[Docket No. 50-263; NRC-2023-0031]

Northern States Power Company; Monticello Nuclear Generating Plant Unit 1; Draft Environmental Impact Statement

AGENCY: Nuclear Regulatory Commission

ACTION: Request for comment; public comment meetings.

SUMMARY: The U.S. Nuclear Regulatory Commission (NRC) is issuing for public comment draft Site-Specific Environmental Impact Statement for License Renewal of Nuclear Plants, Supplement 26, Second Renewal, Regarding Subsequent License Renewal for Monticello Nuclear Generating Plant, Unit 1, NUREG-1437, regarding the proposed subsequent renewal of Renewed Facility Operating License No. DPR-22, for an additional 20 years of operation for Monticello Nuclear Generating Plant, Unit 1 (Monticello). Monticello is located in central Minnesota on the banks of the Mississippi River in Sherburne and Wright Counties, approximately 38 miles northwest of Minneapolis, MN. Possible alternatives to the proposed action of subsequent license renewal (SLR) include no action and reasonable replacement power alternatives.

DATES: The staff will hold two public meetings, one in-person near Monticello and one through an online webinar and teleconference call, on the draft site-specific environmental impact statement (EIS), including a presentation on the preliminary findings and a transcribed public comment session. The virtual meeting will be held May 8, 2024, at 1 p.m. central time (CT). The in-person meeting will be held on May 15, 2024, at 6 p.m. CT, at the Monticello Community Center, South Mississippi Room, 505 Walnut St., Monticello, MN 55362. The in-person public meeting will be preceded by an open house from 5-6 p.m. CT, at the Monticello Community Center. The public meeting details can be found on the NRC's Public Meeting Schedule at https://www.nrc.gov/pmns/mtg. Members of the public are invited to submit comments by June 10, 2024. Comments received after that date will be considered if it is practical to do so, but the NRC is able to ensure consideration only for comments received on or before that date.

ADDRESSES: You may submit comments by any of the following methods; however, the NRC encourages electronic comment submission through the Federal rulemaking website:

• Federal rulemaking website: Go to https://www.regulations.gov and search for Docket ID NRC-2023-0031. Address questions about Docket IDs in Regulations.gov to Stacy Schumann; telephone: 301-415-0624; email: Stacy.Schumann@nrc.gov. For technical questions, contact the individual listed in the For Further Information Contact section of this document.

• Email: Comments may be submitted to the NRC electronically using the email address MonticelloEnvironmental@nrc.gov.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Jessica Umaña, Office of Nuclear Material Safety and Safeguards, U.S. Nuclear Regulatory Commission, Washington, DC 20555-0001; telephone: 301-415-5207; email: Jessica.Umana@nrc.gov.

SUPPLEMENTARY INFORMATION:

I. Obtaining Information and Submitting Comments

A. Obtaining Information

Please refer to Docket ID NRC-2023-0031 when contacting the NRC about the availability of information regarding this document. You may obtain publicly available information related to this action using any of the following methods:

• Federal Rulemaking website: Go to https://www.regulations.gov and search for Docket ID NRC-2023-0031.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. Draft Site-Specific Environmental Impact Statement for License Renewal of Nuclear Plants, Supplement 26, Second Renewal, Regarding Subsequent License Renewal for Monticello Nuclear Generating Plant, Unit 1, NUREG-1437, is available in ADAMS under Accession No. ML24102A276.

• NRC's PDR: The PDR, where you may examine and order copies of publicly available documents, is open by appointment. To make an appointment to visit the PDR, please send an email to PDR.Resource@nrc.gov or call 1-800-397-4209 or 301-415-4737, between 8 a.m. and 4 p.m. ET, Monday through Friday, except Federal holidays.

• Public Library: A copy of the draft Site-Specific Environmental Impact Statement for License Renewal of Nuclear Plants, Supplement 26, Second Renewal, Regarding Subsequent License Renewal for Monticello Nuclear Generating Plant, Unit 1, NUREG-1437, regarding the proposed subsequent renewal of Renewed Facility Operating License Nos. DPR-22, for an additional 20 years of operation for Monticello, will be available for public review at the Monticello Great River Regional Library, 200 W 6th St., Monticello, MN 55362.

B. Submitting Comments

The NRC encourages electronic comment submission through the Federal rulemaking website (https://www.regulations.gov). Please include Docket ID NRC-2023-0031 in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Discussion

The NRC is issuing for public comment draft Site-Specific Environmental Impact Statement for License Renewal of Nuclear Plants Supplement 26, Second Renewal Regarding Subsequent License Renewal for Monticello Nuclear Generating Plant, Unit 1, NUREG-1437, regarding the proposed subsequent renewal of Renewed Facility Operating License No. DPR-22, for an additional 20 years of operation for Monticello. Draft Site-Specific Supplement 26, Second Renewal, includes a preliminary analysis that evaluates the environmental impacts of the proposed action and alternatives to the proposed action. It considers the impacts of all SLR issues applicable to Monticello SLR on a site-specific basis.

Based on the NRC staff's (i) review of the SLR application, which includes the environmental report, supplemental documents, and the licensee's responses to the NRC staff's requests for additional information; (ii) consultation with Federal, State, Tribal, and local governmental agencies and consideration of input from other stakeholders; and (iii) independent environmental review as documented in the draft site-specific EIS, the NRC staff's preliminary recommendation is that the adverse environmental impacts of subsequent license renewal for Monticello are not so great that preserving the option of subsequent license renewal for energy-planning decisionmakers would be unreasonable.

Detailed information about the subsequent license renewal process can be found on the NRC's public website, under Reactor License Renewal, at https://www.nrc.gov/reactors/operating/licensing/renewal.html. Materials involving the request to renew the operating licenses for Monticello are available for public inspection at the NRC's PDR, and at https://www.nrc.gov/reactors/operating/licensing/renewal/subsequent-license-renewal.html.

Dated: April 19, 2024.
For the Nuclear Regulatory Commission.
Stephen S. Koenick,
Chief, Environmental Project Management Branch 1, Division of Rulemaking, Environmental, and Financial Support, Office of Nuclear Material Safety and Safeguards.

[FR Doc. 2024-08746 Filed 4-23-24; 8:45 am]

BILLING CODE 7590-01-P